DEPARTMENT OF JUSTICE

Office of Justice Programs

[OJP(OJP)-1365]

Meeting of the Public Safety Officer Medal of Valor Review Board

AGENCY: Office of Justice Programs (OJP), Justice.

ACTION: Notice of meeting.

SUMMARY: This is an announcement of a meeting of the Public Safety Officer Medal of Valor Review Board to discuss and review applications received for the Public Safety Officer Medal of Valor.

DATES: The meeting will take place on Friday, November 22, 2002, from 11 a.m. to 5 p.m. C.S.T.

ADDRESSES: The meeting will take place at the offices of the Kansas City Fire Department, 2400 Troost Avenue, Third Floor, Kansas City, MO; Phone: (816) 784-9206.

FOR FURTHER INFORMATION, CONTACT: Tracy A. Henke, Principal Deputy Assistant Attorney General, Office of Justice Programs, 810 7th Street NW., Sixth Floor, Washington, DC 20531; Phone: (202) 307-5933 (note: this not a toll free number).

SUPPLEMENTARY INFORMATION: The purpose of this meeting is to review and discuss applications for the Public Safety Officer Medal of Valor from among those applications received by the National Medal of Valor Office.

This meeting is open to the public and registrations will be accepted on a space available basis. Members of the public who wish to attend the meeting must register at least (7) days in advance of the meeting by contacting Ms. Henke at the above address. Access to the meeting will not be allowed without registration. All attendees will be required to sign in at the meeting registration desk. Please bring photo identification and allow extra time prior to the meeting.

Anyone requiring special accommodations should contact Ms. Henke at least seven (7) days in advance of the meeting.

Authority

The Public Safety Officer Medal of Valor Review Board is authorized to carry out its advisory function under 42 U.S.C. 15202. 42 U.S.C. section 15201 authorizes the President to award the Public Safety Officer Medal of Valor, the highest national award for valor by a public safety officer.

Tracy A. Henke,
Principal Deputy Assistant Attorney General, Office of Justice Programs.

[FR Doc. 02-28610 Filed 11-8-02; 8:45 am]

BILLING CODE 4410-18-P